NATIONAL CREDIT UNION ADMINISTRATION

Sunshine Act; Notice of Agency Meeting

TIME AND DATE: 10:00 a.m., Thursday, May 24, 2012.

PLACE: Board Room, 7th Floor, Room 7047, 1775 Duke Street (All visitors must use Diagonal Road Entrance), Alexandria, VA 22314-3428.

STATUS: Open.

Matters To Be Considered

1. NCUA's Rules and Regulations, Reg Flex Relief.

2. Final Interpretive Ruling and Policy Statement (IRPS)—12-1, Supervisory Review Committee.

3. NCUA's Rules and Regulations, Troubled Debt Restructuring.

4. Quarterly Insurance Fund Report.

RECESS: 11 a.m.

TIME AND DATE: 11:15 a.m., Thursday, May 24, 2012.

PLACE: Board Room, 7th Floor, Room 7047, 1775 Duke Street, Alexandria, VA 22314-3428.

STATUS: Closed.

Matters To Be Considered

1. Consideration of Supervisory Activities (3). Closed pursuant to exemptions (8), (9)(i)(B) and 9(ii).

2. Appeal under Section 701.14 and Part 747, Subpart J of NCUA's Rules and Regulations. Closed pursuant to Exemptions (6) and (8).

FOR FURTHER INFORMATION CONTACT: Mary Rupp, Secretary of the Board, Telephone: 703-518-6304.

Mary Rupp,
Board Secretary.

[FR Doc. 2012-12404 Filed 5-18-12; 11:15 am]

BILLING CODE 7535-01-P